DEPARTMENT OF THE TREASURY

Alcohol and Tobacco Tax and Trade Bureau

Proposed Information Collection; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before January 8, 2007.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and questionnaires:

Title: Tobacco Products Manufacturers—Notice for Tobacco Products TTB REC 5210/12, and Records of Operations, TTB REC 5210/1.

OMB Number: 1513-0091.

TTB Record Numbers: 5210/12 and 5210/1.

Abstract: Tobacco products manufacturers maintain a record system showing tobacco and tobacco products receipts, production, and dispositions which support removals subject to tax; transfer in bond; and inventory records. These records are vital to tax enforcement.

Current Actions: There are no changes to this information collection, and it is being submitted for extension purposes only.

Type of Review: Extension.

Affected Public: Business or other for-profit.

Estimated Number of Respondents: 180.

Estimated Total Annual Burden Hours: One (1).

Title: Recordkeeping for Tobacco Products and Cigarette Papers or Tubes Brought from Puerto Rico to the U.S.

OMB Number: 1513-0108.

TTB Form or Record Number: None.

Abstract: The prescribed recordkeeping requirements apply to persons who ship tobacco products or cigarette papers or tubes from Puerto Rico to the United States. The records verify the amount of taxes to be paid and that any required bond is sufficient to cover unpaid liabilities.

Current Actions: There are no changes to this information collection, and it is being submitted for extension purposes only.

Type of Review: Extension.

Affected Public: Business or other for-profit.

Estimated Number of Respondents: 4.

Estimated Total Annual Burden Hours: One (1).

Title: Customer Survey Questionnaires for Applicants, Permittees, Claimants, and Others Doing Business with TTB.

OMB Number: 1513-XXXX (To be assigned).

TTB Form or Record Number: None.

Abstract: TTB, in an effort to improve its Customer Service, uses these questionnaires to keep track of its customer service quality and progress, as well as to identify potential needs, problems, and opportunities for improvement. These questionnaires will be used primarily in telephone interviews, but may be used on other occasions as well. The respondents are applicants, permittees, and claimants pursuant to the Federal Alcohol Administration Act, the Internal Revenue Code, and the TTB regulations. There is no cost to respondents other than their time, and responding to these customer service questionnaires is voluntary.

Current Actions: This is a new collection and it is being submitted for approval.

Type of Review: Regular (New Collection).

Affected Public: Business or other for-profit.

Estimated Number of Respondents: 2,500.

Estimated Total Annual Burden Hours: 625.

Dated: November 2, 2006.
Francis W. Foote,
Director, Regulations and Rulings Division.

[FR Doc. E6-18878 Filed 11-7-06; 8:45 am]

BILLING CODE 4810-31-P